FEDERAL ACCOUNTING STANDARDS ADVISORY BOARD

Notice of Issuance of Statement of Federal Financial Accounting Standards 46

AGENCY: Federal Accounting Standards Advisory Board.

ACTION: Notice.

Board Action: Pursuant to 31 U.S.C. 3511(d), the Federal Advisory Committee Act (Pub. L. 92-463), as amended, and the FASAB Rules of Procedure, as amended in October, 2010, notice is hereby given that the Federal Accounting Standards Advisory Board (FASAB) has issued Statement of Federal Financial Accounting Standard 46, Deferral of the Transition to Basic Information for Long-Term Projections.

The Standard is available at http://www.fasab.gov/accounting-standards/authoritative-source-of-gaap/accounting-standards/fasab-handbook/

For assistance in accessing the document contact FASAB at (202) 512-7350.

FOR FURTHER INFORMATION CONTACT: Wendy M. Payne, Executive Director, 441 G St. NW., Mail Stop 6H19, Washington, DC 20548 or call 202-512-7350.

Authority: Federal Advisory Committee Act, Pub. L. 92-463.

Dated: October 20, 2014.
Charles Jackson,
Federal Register Liaison Officer.

[FR Doc. 2014-25172 Filed 10-22-14; 8:45 am]

BILLING CODE 1610-02-P